FEDERAL ELECTION COMMISSION

Sunshine Act Notice

TIME AND DATE: Thursday, February 8, 2018 at 10:00 a.m.

PLACE: 999 E Street NW, Washington, DC (Ninth Floor).

STATUS: This hearing will be open to the public.

MATTER TO BE CONSIDERED:

Audit Hearing: McSally for Congress

CONTACT PERSON FOR MORE INFORMATION: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2018-02355 Filed 2-1-18; 4:15 pm]

BILLING CODE 6715-01-P